ENVIRONMENTAL PROTECTION AGENCY

[FRL-7994-5]

Notice of Availability of Draft NPDES General Permit for Small Municipal Separate Storm Sewer Systems in the Commonwealth of Puerto Rico and Federal Facilities in the Commonwealth of Puerto Rico

AGENCY: Environmental Protection Agency.

ACTION: Notice of Draft NPDES General Permits—PRR040000 and PRR04000F.

SUMMARY: The Director of the Caribbean Environmental Protection Division (CEPD), Environmental Protection Agency—Region 2 (EPA), is issuing Notice of a Draft National Pollutant Discharge Elimination System (NPDES) general permit for discharges from small municipal separate storm sewer systems (MS4) to waters of the Commonwealth of Puerto Rico. This draft NPDES general permit establishes Notice of Intent (NOI) requirements, standards, prohibitions and management practices for discharges of storm water from municipal separate storm sewer systems. Owners and/or operators of small MS4s that discharge storm water will be required to submit a NOI to EPA-CEPD to be covered by the general permit and will receive a written notification from EPA-CEPD of permit coverage and authorization to discharge under the general permit. The eligibility requirements are discussed in the draft permit. The municipality must meet the eligibility requirements of the permit prior to submission of the NOI. This general permit does not cover new sources as defined under 40 CFR 122.2.

DATES: Public comments are due by midnight on February 6, 2006. The general permit shall be effective on the date specified in the final general permit published in the Federal Register and will expire five years from the date that the final permit is published in the Federal Register. Within the comment period, interested persons may request a public hearing pursuant to 40 CFR 124.12 concerning the proposed permit. Requests for a public hearing must be sent or delivered in writing to the same address as provided below for public comments prior to the close of the comment period. Requests for a public hearing must state the nature of the issues proposed to be raised in the hearing. Pursuant to 40 CFR 124.12, EPA shall hold a public hearing if it finds, on the basis of requests, a significant degree of public interest in a public hearing on the proposed permit. If EPA decides to hold a public hearing, a public notice of the date, time and place of the hearing will be made at least 30 days prior to the hearing.

ADDRESSES: The draft permit is based on an administrative record available for public review at EPA—Region 2, Caribbean Environmental Protection Division, Centro Europa Building, Suite 417, 1492 Ponce de Leon Avenue, San Juan, Puerto Rico 00907-4127.

FOR FURTHER INFORMATION CONTACT: Additional information concerning the draft permit may be obtained between the hours of 8:30 a.m. and 4:30 p.m. Monday through Friday excluding holidays from: Sergio Bosques, Caribbean Environmental Protection Division, Environmental Protection Agency, Centro Europa Building, Suite 417, 1492 Ponce de Leon Avenue, San Juan, Puerto Rico 00907-4127; telephone: 787-977-5838; e-mail: bosques.sergio@epa.gov.

SUPPLEMENTARY INFORMATION: This general permit covers storm water discharges from small municipal separate storm sewer systems meeting the definition of “small municipal separate storm sewer system” at 40 CFR 122.26(b)(16) and designated under 40 CFR 122.32(a)(1) or 40 CFR 122.32(a)(2). Designation under 40 CFR 122.32(a)(1) applies to small MS4s located in an urbanized area. Designation under 40 CFR 122.32(a)(2) applies to small MS4s determined to need a permit by the Director. A small MS4 is a conveyance or system of conveyances—including roads with drainage systems, municipal streets, catch basins, curbs, gutters, ditches, manmade channels, or storm drains. This system must be owned or operated by a municipality. A municipality includes the following entities: The United States, a State, city, town, borough, county, parish, district, association, or other public body (created by or pursuant to State law) having jurisdiction over disposal of sewage, industrial wastes, storm water, or other wastes including special districts under State law such as a sewer, flood control district or drainage district, or similar entity, or a designated and approved management agency under section 208 of the CWA that discharges to waters of the United States. A Fact Sheet sets forth principal facts and the significant factual, legal, and policy issues considered in the development of the draft permit. To obtain a paper copy of the documents, please contact Sergio Bosques using the contact information provided above.

When the general permits are issued, the notice of final issuance will be published in the Federal Register. The general permits shall be effective on the date specified in the notice of final issuance of the general permits published in the Federal Register and will expire five years from the effective date of the permit.

Authority: Clean Water Act, 33 U.S.C. 1251 et seq.

Dated: September 30, 2005.
José C. Font,
Acting Director, Caribbean Environmental Protection Division, EPA Region 2.

[FR Doc. 05-22252 Filed 11-7-05; 8:45 am]

BILLING CODE 6560-50-P